DEPARTMENT OF TRANSPORTATION

Federal Aviation Administration

14 CFR Part 39

[Docket No. FAA-2008-1079; Directorate Identifier 2008-NM-116-AD; Amendment 39-16377; AD 2010-16-01]

RIN 2120-AA64

Airworthiness Directives; Empresa Brasileira de Aeronautica S.A. (EMBRAER) Model EMB-135ER, -135KE, -135KL, and -135LR Airplanes, and Model EMB-145, -145ER, -145MR, -145LR, -145XR, -145MP, and -145EP Airplanes

AGENCY: Federal Aviation Administration (FAA), Department of Transportation (DOT).

ACTION: Final rule.

SUMMARY: We are superseding an existing airworthiness directive (AD) for the products listed above. This AD results from mandatory continuing airworthiness information (MCAI) issued by an airworthiness authority of another country to identify and correct an unsafe condition on an aviation product. The earlier MCAI, Brazilian Airworthiness Directive 2007-08-02, effective September 27, 2007, describes the unsafe condition as:

Fuel system reassessment, performed according to RBHA-E88/SFAR-88 (Regulamento Brasileiro de Homologacao Aeronautica 88/Special Federal Aviation Regulation No. 88), requires the inclusion of new maintenance tasks in the Critical Design Configuration Control Limitations (CDCCL) and in the Fuel System Limitations (FSL), necessary to preclude ignition sources in the fuel system. * * *

The new MCAI, Brazilian Airworthiness Directive 2009-08-03, effective August 20, 2009, describes the unsafe condition as:

An airplane fuel tank systems review required by Special Federal Aviation Regulation Number 88 (SFAR 88) and “RBHA Especial Número 88” (RBHA E 88) has shown that additional maintenance and inspection instructions are necessary to maintain the design features required to preclude the existence or development of an ignition source within the fuel tanks of the airplane.

We are issuing this AD to require actions to correct the unsafe condition on these products.

DATES: This AD becomes effective September 9, 2010.

The Director of the Federal Register approved the incorporation by reference of certain publications listed in this AD as of September 9, 2010.

On July 30, 2008 (73 FR 35904, June 25, 2008), the Director of the Federal Register approved the incorporation by reference of a certain publication listed in this AD.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Discussion

We issued a supplemental notice of proposed rulemaking (NPRM) to amend 14 CFR part 39 to include an AD that would apply to the specified products. That supplemental NPRM was published in the Federal Register on March 23, 2010 (75 FR 13689), and proposed to supersede AD 2008-13-14, Amendment 39-15577 (73 FR 35904, June 25, 2008). That NPRM proposed to require revision of the airworthiness limitations section of the Instructions for Continued Airworthiness to incorporate new limitations for fuel tank systems. The earlier MCAI, Brazilian Airworthiness Directive 2007-08-02, effective September 27, 2007, describes the unsafe condition as:

Fuel system reassessment, performed according to RBHA-E88/SFAR-88 (Regulamento Brasileiro de Homologacao Aeronautica 88/Special Federal Aviation Regulation No. 88), requires the inclusion of new maintenance tasks in the Critical Design Configuration Control Limitations (CDCCL) and in the Fuel System Limitations (FSL), necessary to preclude ignition sources in the fuel system. * * *

The new MCAI, Brazilian Airworthiness Directive 2009-08-03, effective August 20, 2009, describes the unsafe condition as:

An airplane fuel tank systems review required by Special Federal Aviation Regulation Number 88 (SFAR 88) and “RBHA Especial Número 88” (RBHA E 88) has shown that additional maintenance and inspection instructions are necessary to maintain the design features required to preclude the existence or development of an ignition source within the fuel tanks of the airplane.

The corrective action is revising the Airworthiness Limitations Section (ALS) of the Instructions for Continued Airworthiness (ICA) to incorporate new limitations for fuel tank systems. You may obtain further information by examining the MCAI in the AD docket.

Comments

We gave the public the opportunity to participate in developing this AD. We considered the comments received.

Request To Allow Service Bulletin for Compliance

ExpressJet Airlines and EMBRAER request that we revise the supplemental NPRM to consider Parker Service Bulletin 367-934-28-110, Revision A, dated December 19, 2006, as documentation for past compliance with the inspections and functional checks of the safe-life features.

ExpressJet reports that, since early 2007, Parker has been referencing this service bulletin (by marking the inspected units with the service bulletin number and date of accomplishment) to show compliance with these inspections.

EMBRAER notes that the fuel conditioning unit (FCU) and the ventral fuel conditioning unit (VFCU) are manufactured by Parker. To clarify which checks and inspections are to be performed on the FCU and VFCU, and ensure that the safe-life features are maintained, Parker has published Component Maintenance Manuals (CMMs) 28-41-36, Revision 4, dated March 13, 2009; 28-41-69, Revision 2, dated March 13, 2009; and 28-41-80, dated April 3, 2009. Parker also issued Test Manual (TM) 4213-025, “Identicallity of Testing Performed—EMB-145 FCU CMM 28-41-XX/Service Bulletin 367-934-28-110 for EMB-145 FAMILY—Fuel Conditioning Units,” Revision A, dated October 13, 2009. EMBRAER states that the purpose of the TM is to describe the identicality of the testing performed on EMB-145 FCUs returned under the current service bulletin to the CMMs. The TM substantiates that all CUs already in compliance with the 10,000-flight-hour inspection in accordance with Parker Service Bulletin 367-934-28-110 have had the equivalent inspection to the safe-life testing required in the CMMs. EMBRAER reports that, when an FCU is returned to the field after having the service bulletin incorporated, the unit is returned to the customer with an FAA 8130-3 tag indicating that Parker Service Bulletin 367-934-28-110 was accomplished, and the FCU is also marked accordingly.

We agree with the request and the commenters' rationale. We have added a provision to this AD to consider FCUs inspected by Parker and marked with the service bulletin number and the date of accomplishment to be in compliance with the requirements of paragraph (g)(1) of this AD.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable in a U.S. court of law. In making these changes, we do not intend to differ substantively from the information provided in the MCAI and related service information.

We might also have required different actions in this AD from those in the MCAI in order to follow our FAA policies. Any such differences are described in a separate paragraph of the AD. These requirements, if any, take precedence over the actions copied from the MCAI.

Costs of Compliance

Based on the service information, we estimate that this AD affects about 41 products of U.S. registry.

The actions that are required by AD 2008-13-14 and retained in this AD take about 1 work-hour per product, at an average labor rate of $85 per work hour. Based on these figures, the estimated cost of the currently required actions is $85 per product.

We estimate that it takes about 1 work-hour per product to comply with the new basic requirements of this AD. The average labor rate is $85 per work-hour. Based on these figures, we estimate the cost of the AD on U.S. operators to be $3,485, or $85 per product.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15577 (73 FR 35904, June 25, 2008) and adding the following new AD:

2010-16-01 Empresa Brasileira de Aeronautica S.A. (EMBRAER): Amendment 39-16377. Docket No. FAA-2008-1079; Directorate Identifier 2008-NM-116-AD.

Effective Date

(a) This airworthiness directive (AD) becomes effective September 9, 2010.

Affected ADs

(b) This AD supersedes AD 2008-13-14, Amendment 39-15577.

Applicability

(c) This AD applies to Empresa Brasileira de Aeronautica S.A. (EMBRAER) Model EMB-135ER, -135KE, -135KL, and -135LR airplanes, and Model EMB-145, -145ER, -145MR, -145LR, -145XR, -145MP, and -145EP airplanes; certificated in any category; except for Model EMB-145LR airplanes modified according to Brazilian Supplemental Type Certificate 2002S06-09, 2002S06-10, or 2003S08-01.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (h) of this AD. The request should include a description of changes to the required inspections that will ensure the continued operational safety of the airplane.

Subject

(d) Air Transport Association (ATA) of America Code 28: Fuel.

Reason

(e) The mandatory continuing airworthiness information (MCAI), Brazilian Airworthiness Directive 2007-08-02, effective September 27, 2007, states:

Fuel system reassessment, performed according to RBHA-E88/SFAR-88 (Regulamento Brasileiro de Homologacao Aeronautica 88/Special Federal Aviation Regulation No. 88), requires the inclusion of new maintenance tasks in the Critical Design Configuration Control Limitations (CDCCL) and in the Fuel System Limitations (FSL), necessary to preclude ignition sources in the fuel system. * * *

The MCAI, Brazilian Airworthiness Directive 2009-08-03, effective August 20, 2009, states:

An airplane fuel tank systems review required by Special Federal Aviation Regulation Number 88 (SFAR 88) and “RBHA Especial Número 88” (RBHA E 88) has shown that additional maintenance and inspection instructions are necessary to maintain the design features required to preclude the existence or development of an ignition source within the fuel tanks of the airplane.

The corrective action is revising the Airworthiness Limitations Section (ALS) of the Instructions for Continued Airworthiness (ICA) to incorporate new limitations for fuel tank systems.

Restatement of Requirements of AD 2008-13-14

Actions and Compliance

(f) Unless already done, do the following actions.

(1) Before December 16, 2008, revise the ALS of the ICA to incorporate Section A2.5.2, Fuel System Limitation Items, of Appendix 2 of EMBRAER EMB135/ERJ140/EMB145 Maintenance Review Board Report MRB-145/1150, Revision 11, dated September 19, 2007, except as provided by paragraph (g) of this AD. Except as required by paragraph (g) of this AD, for all tasks identified in Section A2.5.2 of Appendix 2 of EMBRAER EMB135/ERJ140/EMB145 Maintenance Review Board Report MRB-145/1150, Revision 11, dated September 19, 2007, the initial compliance times start from the applicable times specified in Table 1 of this AD; and the repetitive inspections must be accomplished thereafter at the interval specified in Section A2.5.2 of Appendix 2 of EMBRAER EMB135/ERJ140/EMB145 Maintenance Review Board Report MRB-145/1150, Revision 11, dated September 19, 2007, except as provided by paragraphs (f)(3) and (h) of this AD.

Table 1—Initial Inspections
Reference No. | Description | Compliance time (whichever occurs later): Threshold | Compliance time (whichever occurs later): Grace period
28-11-00-720-001-A00 | Functionally Check critical bonding integrity of selected conduits inside the wing tank, Fuel Pump and FQIS connectors at tank wall by conductivity measurements | Before the accumulation of 30,000 total flight hours | Within 90 days after December 16, 2008.
28-17-01-720-001-A00 | Functionally Check critical bonding integrity of Fuel Pump, VFQIS and Low Level SW connectors at tank wall by conductivity measurements | Before the accumulation of 30,000 total flight hours | Within 90 days after December 16, 2008.
28-21-01-220-001-A00 | Inspect Electric Fuel Pump Connector | Before the accumulation of 10,000 total flight hours | Within 90 days after December 16, 2008.
28-23-03-220-001-A00 | Inspect Pilot Valve harness inside the conduit | Before the accumulation of 20,000 total flight hours | Within 90 days after December 16, 2008.
28-23-04-220-001-A00 | Inspect Vent Valve harness inside the conduit | Before the accumulation of 20,000 total flight hours | Within 90 days after December 16, 2008.
28-27-01-220-001-A00 | Inspect Electric Fuel Transfer Pump Connector | Before the accumulation of 10,000 total flight hours | Within 90 days after December 16, 2008.
28-41-03-220-001-A00 | Inspect FQIS harness for clamp and wire jacket integrity | Before the accumulation of 20,000 total flight hours | Within 90 days after December 16, 2008.
28-41-07-220-001-A00 | Inspect VFQIS and Low Level SW Harness for clamp and wire jacket integrity | Before the accumulation of 20,000 total flight hours | Within 90 days after December 16, 2008.

(2) Within 90 days after July 30, 2008 (the effective date of AD 2008-13-14), revise the ALS of the ICA to incorporate items 1, 2, and 3 of Section A2.4, Critical Design Configuration Control Limitation (CDCCL), of Appendix 2 of EMBRAER EMB135/ERJ140/EMB145 Maintenance Review Board Report MRB-145/1150, Revision 11, dated September 19, 2007.

(3) After accomplishing the actions specified in paragraphs (f)(1) and (f)(2) of this AD, no alternative inspections, inspection intervals, or CDCCLs may be used unless the inspections, intervals, or CDCCLs are approved as an alternative method of compliance (AMOC) in accordance with the procedures specified in paragraph (h) of this AD.

New Requirements of This AD

Actions and Compliance

(g) Unless already done, do the following actions.

(1) Within 30 days after the effective date of this AD, revise the ALS of the ICA to incorporate Tasks 28-41-01-720-001-A01 and 28-41-04-720-001-A01 identified in Table 2 of this AD into Section A2.5.2, Fuel System Limitation Items, of Appendix 2 of EMBRAER EMB135/ERJ140/EMB145 Maintenance Review Board Report MRB-145/1150. After incorporating Tasks 28-41-01-720-001-A01 and 28-41-04-720-001-A01 identified in Table 2 of this AD, Tasks 28-41-01-720-001-A00 and 28-41-04-720-001-A00 identified in Section A2.5.2 of Appendix 2 of EMBRAER EMB135/ERJ140/EMB145 Maintenance Review Board Report MRB-145/1150, Revision 11, dated September 19, 2007, are no longer required. For the fuel limitation tasks identified in Table 2 of this AD, do the initial task at the later of the applicable “Threshold” and “Grace Period” times specified in Table 2 of this AD. FCUs on which Parker has performed the initial tasks required by this paragraph before the effective date of this AD, and which are marked with “Service Bulletin 367-934-28-110, Revision A” and the date of accomplishment, are in compliance with the corresponding task required by this paragraph.

Table 2—Inspections
Task No. | Description | Part No. | Compliance time (whichever occurs later): Threshold | Compliance time (whichever occurs later): Grace period | Repetitive interval (not to exceed)
28-41-01-720-001-A01 | Perform an initial functional check as shown in Testing and Fault Isolation sections 1, 2, and 3; an external visual inspection as shown in the Check section 2; an internal visual inspection as shown in the Repair section 1; a functional check of the safe-life features as shown in Testing and Fault Isolation section 4; and a final functional check as shown in Testing and Fault Isolation sections 1, 2, and 3; of the fuel conditioning unit (FCU), in accordance with Parker Component Maintenance Manual (CMM) 28-41-36, Revision 4, dated March 13, 2009 | 367-934-001 | Before the accumulation of 10,000 total flight hours on the FCU | Within 90 days after the effective date of this AD | 10,000 flight hours on the FCU since the most recent functional check.
28-41-01-720-001-A01 | Perform an initial functional check as shown in Testing and Fault Isolation sections 1, 2, and 3; an external visual inspection as shown in Check section 2; an internal visual inspection as shown in Repair section 1; a functional check of the safe-life features as shown in Testing and Fault Isolation section 4; and a final functional check as shown in Testing and Fault Isolation sections 1, 2, and 3; of the FCU, in accordance with Parker CMM 28-41-69, Revision 2, dated March 13, 2009 | 367-934-002 | Before the accumulation of 10,000 total flight hours on the FCU | Within 90 days after the effective date of this AD | 10,000 flight hours on the FCU since the most recent functional check.
28-41-04-720-001-A01 | Perform an initial functional check as shown in Testing and Fault Isolation sections 1, 2, and 3; an external visual inspection as shown in Check section 2; an internal visual inspection as shown in Repair section 1; a functional check of the safe-life features as shown in Testing and Fault Isolation section 4; and a final functional check as shown in Testing and Fault Isolation sections 1, 2, and 3; of the ventral FCU (VFCU), in accordance with Parker CMM 28-41-80, dated April 3, 2009 | 367-934-005 | Before the accumulation of 10,000 total flight hours on the VFCU | Within 90 days after the effective date of this AD | 10,000 flight hours on the VFCU since the most recent functional check.

(2) After accomplishing the actions specified in paragraphs (g)(1) of this AD, no alternative inspections or inspection intervals may be used unless the inspections or intervals are approved as an AMOC in accordance with the procedures specified in paragraph (h)(1) of this AD.

Explanation of CDCCL Requirements

Note 2: Notwithstanding any other maintenance or operational requirements, components that have been identified as airworthy or installed on the affected airplanes before the revision of the ALS of the ICA, as required by paragraph (f)(3) of this AD, do not need to be reworked in accordance with the CDCCLs. However, once the ALS of the ICA has been revised, future maintenance actions on these components must be done in accordance with the CDCCLs.

FAA AD Differences

Note 3: This AD differs from the MCAI and/or service information as follows:

(1) The applicability of Brazilian AD 2009-08-03, effective August 20, 2009, includes Model EMB-135BJ airplanes. This AD does not include that model because that model is included in the applicability of FAA AD 2008-13-15, Amendment 39-15578. We are considering further rulemaking to revise AD 2008-13-15.

(2) Although Brazilian Airworthiness Directive 2009-08-03, effective August 20, 2009, specifies both revising the airworthiness limitations and repetitively inspecting, this AD only requires the revision. Requiring a revision of the airworthiness limitations, rather than requiring individual repetitive inspections, requires operators to record AD compliance status only at the time they make the revision, rather than after every inspection. Repetitive inspections specified in the airworthiness limitations must be complied with in accordance with 14 CFR 91.403(c).

Other FAA AD Provisions

(h) The following provisions also apply to this AD:

(1) Alternative Methods of Compliance (AMOCs): The Manager, International Branch, ANM-116, FAA, has the authority to approve AMOCs for this AD, if requested using the procedures found in 14 CFR 39.19. Send information to ATTN: Todd Thompson, Aerospace Engineer, International Branch, ANM-116, Transport Airplane Directorate, FAA, 1601 Lind Avenue, SW., Renton, Washington 98057-3356; telephone 425-227-1175; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(i) Refer to MCAI Brazilian Airworthiness Directives 2007-08-02, effective September 27, 2007, and 2009-08-03, effective August 20, 2009; Sections A2.5.2, Fuel System Limitation Items, and A2.4, Critical Design Configuration Control Limitation (CDCCL), of Appendix 2 of EMBRAER EMB135/ERJ140/EMB145 Maintenance Review Board Report MRB-145/1150, Revision 11, dated September 19, 2007; and the Parker CMMs listed in Table 2 of this AD; for related information.

Material Incorporated by Reference

(j) You must use the applicable service information contained in Table 3 of this AD to do the actions required by this AD, unless the AD specifies otherwise. (Parker Component Maintenance Manual 28-41-36, Revision 4, dated March 13, 2009, contains an incorrect date on page 105; the correct date is March 13, 2009.) (Parker Component Maintenance Manual 28-41-69, Revision 2, dated March 13, 2009, contains the following errors: Page 105 contains an incorrect date; the correct date is March 13, 2009; and there are 3 pages identified with the same page number (i.e., LEP-2); the first page identified as LEP-2 (i.e., Sheet 1 of 2) should be identified as LEP-1 and the third page identified as LEP-2 (i.e., the blank page) should be identified as LEP-3.)

Table 3—All Material Incorporated by Reference
Document | Revision | Date
Sections A2.5.2, Fuel System Limitation Items, and A2.4, Critical Design Configuration Control Limitation (CDCCL), of Appendix 2 of EMBRAER EMB135/ERJ140/EMB145 Maintenance Review Board Report MRB-145/1150 | 11 | September 19, 2007.
Parker Component Maintenance Manual 28-41-36 | 4 | March 13, 2009.
Parker Component Maintenance Manual 28-41-69 | 2 | March 13, 2009.
Parker Component Maintenance Manual 28-41-80 | Original | April 3, 2009.

(1) The Director of the Federal Register approved the incorporation by reference of the service information contained in Table 4 of this AD under 5 U.S.C. 552(a) and 1 CFR part 51.

Table 4—New Material Incorporated by Reference
Document | Revision | Date
Parker Component Maintenance Manual 28-41-36 | 4 | March 13, 2009.
Parker Component Maintenance Manual 28-41-69 | 2 | March 13, 2009.
Parker Component Maintenance Manual 28-41-80 | Original | April 3, 2009.

(2) The Director of the Federal Register previously approved the incorporation by reference of Sections A2.5.2, Fuel System Limitation Items, and A2.4, Critical Design Configuration Control Limitation (CDCCL), of Appendix 2 of EMBRAER EMB135/ERJ140/EMB145 Maintenance Review Board Report MRB-145/1150, Revision 11, dated September 19, 2007, on July 30, 2008 (73 FR 35904, June 25, 2008).

(3) For EMBRAER service information identified in this AD, contact Empresa Brasileira de Aeronautica S.A. (EMBRAER), Technical Publications Section (PC 060), Av. Brigadeiro Faria Lima, 2170-Putim-12227-901 São Jose dos Campos-SP-BRASIL; telephone +55 12 3927-5852 or +55 12 3309-0732; fax +55 12 3927-7546; e-mail distrib@embraer.com.br; Internet: http://www.flyembraer.com. For Parker service information identified in this AD, contact Parker Hannifin Corporation, Aerospace Group, Electronic Systems Division, 300 Marcus Boulevard, Smithtown, New York 11787; telephone 631-231-3737; e-mail csoengineering@parker.com; Internet: http://www.parker.com.

(4) You may review copies of the service information at the FAA, Transport Airplane Directorate, 1601 Lind Avenue, SW., Renton, Washington. For information on the availability of this material at the FAA, call 425-227-1221.

(5) You may also review copies of the service information that is incorporated by reference at the National Archives and Records Administration (NARA). For information on the availability of this material at NARA, call 202-741-6030, or go to http://www.archives.gov/federal_register/code_of_federal_regulations/ibr_locations.html.

Issued in Renton, Washington on July 16, 2010.
Ali Bahrami,
Manager, Transport Airplane Directorate, Aircraft Certification Service.

[FR Doc. 2010-18293 Filed 8-4-10; 8:45 am]

BILLING CODE 4910-13-P